DEPARTMENT OF HEALTH AND HUMAN SERVICES

National Institutes of Health

National Institute of General Medical Sciences Notice of Organizational Change

AGENCY: National Institutes of Health, HHS.

ACTION: Notice.

SUMMARY: The National Institute of General Medical Sciences (NIGMS) of the National Institutes of Health (NIH) is seeking public comment regarding its proposal to reorganize and to rename its Center for Research Capacity Building to the Division for Research Capacity Building, and transfer the Office of Emergency Care Research to the National Institute of Neurological Disorders and Stroke.

DATES: Any interested person may file written comments by sending an email to reorgcomments@nigms.nih.gov by December 4, 2017. The statement should include the individual's name, and when applicable, professional affiliation.

ADDRESSES: The following email address has been established for comments on the reorganization: reorgcomments@nigms.nih.gov.

FOR FURTHER INFORMATION CONTACT: Stephanie Older, Chief, Office of Communications and Public Liaison, NIGMS, reorgcomments@nigms.nih.gov, 301-496-7301.

SUPPLEMENTARY INFORMATION: The National Institute of General Medical Sciences (NIGMS) of the National Institutes of Health (NIH) is seeking public comment regarding its proposal to reorganize four of its scientific divisions into three: (1) Biophysics, Biomedical Technology and Computational Biosciences; (2) Genetics and Molecular, Cellular and Developmental Biology; and (3) Pharmacology, Physiology, and Biological Chemistry. Pursuant to section 10(a) of the Federal Advisory Committee Act, as amended (5 U.S.C. App.), NIGMS will launch public Web site information at https://nigms.nih.gov to encourage further public discussion of the proposal to reorganize. NIGMS will also provide information via its blog, https://loop.nigms.nih.gov/.

Dated: November 9, 2017
Sally Lee,
Associate Director for Management, National Institute of General Medical Sciences, National Institutes of Health.

[FR Doc. 2017-24853 Filed 11-17-17; 8:45 am]

BILLING CODE 4140-01-P